DEPARTMENT OF TRANSPORTATION

Federal Aviation Administration

14 CFR Part 97

[Docket No. 30983 Amdt. No. 3613]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 17, 2014. The compliance date for each SIAP, associated Takeoff Minimums, and ODP is specified in the amendatory provisions.

The incorporation by reference of certain publications listed in the regulations is approved by the Director of the Federal Register as of November 17, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on October 10, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 November 2014

Akutan, AK, Akutan, RNAV (GPS) RWY 9, Orig

Akutan, AK, Akutan, RNAV (GPS) RWY 27, Amdt 1

Akutan, AK, Akutan, RNAV (GPS)-A, Amdt 1

Nome, AK, Nome, ILS OR LOC/DME Y RWY 28, Amdt 4

Nome, AK, Nome, RNAV (GPS) RWY 3, Amdt 1

Nome, AK, Nome, RNAV (GPS) RWY 10, Amdt 2

Nome, AK, Nome, RNAV (GPS) RWY 28, Amdt 2

Selma, AL, Craig Field, ILS Y OR LOC Y RWY 33, Orig

Selma, AL, Craig Field, ILS Z OR LOC Z RWY 33, Amdt 2

Selma, AL, Craig Field, NDB RWY 33, Amdt 5

Selma, AL, Craig Field, RNAV (GPS) RWY 15, Amdt 1

Selma, AL, Craig Field, RNAV (GPS) RWY 33, Amdt 1

Selma, AL, Craig Field, VOR RWY 15, Amdt 1, CANCELED

Selma, AL, Craig Field, VOR RWY 33, Orig-A, CANCELED

Conway, AR, Cantrell Field, RNAV (GPS) RWY 4, Orig

Conway, AR, Cantrell Field, RNAV (GPS) RWY 22, Orig

Conway, AR, Cantrell Field, Takeoff Minimums and Obstacle DP, Orig

Hope, AR, Hope Muni, Takeoff Minimums and Obstacle DP, Amdt 1

Hope, AR, Hope Muni, VOR/DME RWY 4, Orig

Hope, AR, Hope Muni, VOR/DME RWY 22, Orig

Glendale, AZ, Glendale Muni, DRAKE TWO, Graphic DP

Springerville, AZ, Springerville Muni, RNAV (GPS) RWY 21, Amdt 1B

Santa Rosa, CA, Charles M. Schulz—Sonoma County, RNAV (GPS) RWY 14, Amdt 2

Santa Rosa, CA, Charles M. Schulz—Sonoma County, VOR/DME RWY 14, Amdt 3

Denver, CO, Rocky Mountain Metropolitan, ILS OR LOC RWY 30R, Amdt 15

Denver, CO, Rocky Mountain Metropolitan, ILS OR LOC Z RWY 29R, Orig-B, CANCELED

Denver, CO, Rocky Mountain Metropolitan, RNAV (GPS) RWY 30L, Amdt 2

Denver, CO, Rocky Mountain Metropolitan, RNAV (GPS) RWY 30R, Amdt 2

Denver, CO, Rocky Mountain Metropolitan, VOR/DME RWY 30L/R, Amdt 1

Jacksonville, FL, Cecil, ILS OR LOC RWY 36R, Amdt 3

Jacksonville, FL, Cecil, RNAV (GPS) RWY 9R, Amdt 1

Jacksonville, FL, Cecil, RNAV (GPS) RWY 18L, Amdt 1

Jacksonville, FL, Cecil, RNAV (GPS) RWY 18R, Orig

Jacksonville, FL, Cecil, RNAV (GPS) RWY 27L, Amdt 1

Jacksonville, FL, Cecil, RNAV (GPS) RWY 36L, Orig

Jacksonville, FL, Cecil, RNAV (GPS) RWY 36R, Amdt 1

Plant City, FL, Plant City, RNAV (GPS) RWY 28, Orig

Millen, GA, Millen, RNAV (GPS) RWY 17, Amdt 2

Millen, GA, Millen, RNAV (GPS) RWY 35, Amdt 1

Chicago, IL, Chicago Midway Intl, RNAV (RNP) X RWY 22L, Orig

Chicago, IL, Chicago Midway Intl, RNAV (RNP) Y RWY 22L, Amdt 2

Winfield/Arkansas City, KS, Strother Field, RNAV (GPS) RWY 17, Amdt 1

Winfield/Arkansas City, KS, Strother Field, RNAV (GPS) RWY 35, Amdt 1

Campbellsville, KY, Taylor County, NDB RWY 23, Amdt 4, CANCELED

Campbellsville, KY, Taylor County, RNAV (GPS) RWY 5, Amdt 1

Campbellsville, KY, Taylor County, RNAV (GPS) RWY 23, Amdt 1

Campbellsville, KY, Taylor County, VOR/DME-A, Amdt 7

Cynthiana, KY, Cynthiana-Harrison County, RNAV (GPS) RWY 11, Orig

Cynthiana, KY, Cynthiana-Harrison County, RNAV (GPS) RWY 29, Orig

Cynthiana, KY, Cynthiana-Harrison County, Takeoff Minimums and Obstacle DP, Orig

Prestonsburg, KY, Big Sandy Rgnl, RNAV (GPS) RWY 3, Amdt 1

Prestonsburg, KY, Big Sandy Rgnl, RNAV (GPS) RWY 21, Amdt 2

Prestonsburg, KY, Big Sandy Rgnl, VOR/DME-A, Amdt 3

Marshfield, MA, Marshfield Muni—George Harlow Field, NDB RWY 6, Amdt 5

Marshfield, MA, Marshfield Muni—George Harlow Field, NDB RWY 24, Amdt 3

Marshfield, MA, Marshfield Muni—George Harlow Field, RNAV (GPS) RWY 6, Amdt 1

Marshfield, MA, Marshfield Muni—George Harlow Field, RNAV (GPS) RWY 24, Amdt 1

Marshfield, MA, Marshfield Muni—George Harlow Field, Takeoff Minimums and Obstacle DP, Amdt 1

Belfast, ME, Belfast Muni, NDB RWY 15, Amdt 4

Belfast, ME, Belfast Muni, RNAV (GPS) RWY 15, Amdt 1

Belfast, ME, Belfast Muni, RNAV (GPS) RWY 33, Amdt 1

Fryeburg, ME, Eastern Slopes Rgnl, RNAV (GPS) RWY 32, Amdt 1

Grand Haven, MI, Grand Haven Memorial Airpark, VOR-A, Amdt 16A

Oxford, MS, University-Oxford, LOC Y RWY 9, Orig

Oxford, MS, University-Oxford, LOC Z RWY 9, Amdt 3

Oxford, MS, University-Oxford, RNAV (GPS) RWY 9, Amdt 1

Oxford, MS, University-Oxford, RNAV (GPS) RWY 27, Amdt 1

Oxford, MS, University-Oxford, Takeoff Minimums and Obstacle DP, Amdt 2

Oxford, MS, University-Oxford, VOR/DME-A, Amdt 5

Wallace, NC, Henderson Field, GPS RWY 9, Orig, CANCELED

Wallace, NC, Henderson Field, GPS RWY 27, Orig, CANCELED

Wallace, NC, Henderson Field, RNAV (GPS) RWY 9, Orig

Wallace, NC, Henderson Field, RNAV (GPS) RWY 27, Orig

Seneca Falls, NY, Finger Lakes Rgnl, RNAV (GPS) RWY 1, Amdt 3

Seneca Falls, NY, Finger Lakes Rgnl, RNAV (GPS) RWY 19, Orig

White Plains, NY, Westchester County, ILS OR LOC RWY 16, ILS RWY 16 (SA CAT I), ILS RWY 16 SA CAT II), Amdt 25

Pendleton, OR, Eastern Oregon Rgnl At Pendleton, Takeoff Minimums and Obstacle DP, Amdt 4

Somerset, PA, Somerset County, RNAV (GPS) RWY 7, Amdt 1

Somerset, PA, Somerset County, RNAV (GPS) RWY 25, Amdt 1

Marion, SC, Marion County, NDB RWY 4, Amdt 5

Marion, SC, Marion County, RNAV (GPS) RWY 4, Amdt 1

Marion, SC, Marion County, RNAV (GPS) RWY 22, Orig

Marion, SC, Marion County, Takeoff Minimums and Obstacle DP, Amdt 2

Marion, SC, Marion County, VOR/DME-A, Amdt 5

Rock Hill, SC, Rock Hill/York Co/Bryant Field, ILS Y OR LOC Y RWY 2, Amdt 1

Rock Hill, SC, Rock Hill/York Co/Bryant Field, ILS Z OR LOC Z RWY 2, Amdt 3

Rock Hill, SC, Rock Hill/York Co/Bryant Field, RNAV (GPS) RWY 2, Amdt 3

Canadian, TX, Hemphill County, RNAV (GPS) RWY 4, Amdt 1

Canadian, TX, Hemphill County, Takeoff Minimums and Obstacle DP, Amdt 3

Wendover, UT, Wendover, RNAV (GPS) RWY 26, Amdt 1

Wendover, UT, Wendover, RNAV (GPS)-A, Amdt 1

Wendover, UT, Wendover, RNAV (GPS)-C, Amdt 1

Wendover, UT, Wendover, Takeoff Minimums and Obstacle DP, Amdt 6

Wendover, UT, Wendover, VOR/DME-B, Amdt 1

Wendover, UT, Wendover, VOR/DME OR TACAN RWY 26, Amdt 1

Renton, WA, Renton Muni, NDB RWY 16, Amdt 8

Richland, WA, Richland, LOC RWY 19, Amdt 9

Richland, WA, Richland, RNAV (GPS) RWY 26, Amdt 2

Richland, WA, Richland, RNAV (GPS) Y RWY 19, Amdt 2

Richland, WA, Richland, RNAV (GPS) Z RWY 19, Amdt 1

Richland, WA, Richland, Takeoff Minimums and Obstacle DP, Amdt 9

Richland, WA, Richland, VOR/DME-A, Amdt 7

Seattle, WA, Seattle-Tacoma Intl, ILS OR LOC RWY 16C, ILS RWY 16C (SA CAT I), ILS RWY 16C (CAT II), ILS RWY 16C (CAT III), Amdt 15

Seattle, WA, Seattle-Tacoma Intl, ILS OR LOC RWY 16L, ILS RWY 16L (SA CAT I), ILS RWY 16L (CAT II), ILS RWY 16L (CAT III), Amdt 6

Seattle, WA, Seattle-Tacoma Intl, ILS OR LOC RWY 16R, ILS RWY 16R (SA CAT I), ILS RWY 16R (CAT II), ILS RWY 16R (CAT III), Amdt 3

Seattle, WA, Seattle-Tacoma Intl, RNAV (GPS) Y RWY 16C, Amdt 3

Seattle, WA, Seattle-Tacoma Intl, RNAV (GPS) Y RWY 16L, Amdt 4

Seattle, WA, Seattle-Tacoma Intl, RNAV (GPS) Y RWY 16R, Amdt 2

Seattle, WA, Seattle-Tacoma Intl, RNAV (RNP) Z RWY 16C, Amdt 1

Seattle, WA, Seattle-Tacoma Intl, RNAV (RNP) Z RWY 16L, Amdt 1

Seattle, WA, Seattle-Tacoma Intl, RNAV (RNP) Z RWY 16R, Amdt 1

Seattle, WA, Seattle-Tacoma Intl, RNAV (RNP) Z RWY 34C, Amdt 1

Seattle, WA, Seattle-Tacoma Intl, RNAV (RNP) Z RWY 34L, Amdt 1

Seattle, WA, Seattle-Tacoma Intl, RNAV (RNP) Z RWY 34R, Amdt 1

La Crosse, WI, La Crosse Rgnl, ILS OR LOC RWY 18, Amdt 21

La Crosse, WI, La Crosse Rgnl, NDB RWY 18, Amdt 19A

La Crosse, WI, La Crosse Rgnl, RNAV (GPS) RWY 3, Amdt 1A

La Crosse, WI, La Crosse Rgnl, RNAV (GPS) RWY 13, Orig-A

La Crosse, WI, La Crosse Rgnl, RNAV (GPS) RWY 18, Orig-B

La Crosse, WI, La Crosse Rgnl, RNAV (GPS) RWY 21, Orig-A

La Crosse, WI, La Crosse Rgnl, RNAV (GPS) RWY 31, Orig-A

La Crosse, WI, La Crosse Rgnl, RNAV (GPS) RWY 36, Orig-A

La Crosse, WI, La Crosse Rgnl, VOR RWY 13, Amdt 31

La Crosse, WI, La Crosse Rgnl, VOR RWY 36, Amdt 32

[FR Doc. 2014-26862 Filed 11-14-14; 8:45 am]

BILLING CODE 4910-13-P